DEPARTMENT OF THE INTERIOR

Bureau of Ocean Energy Management

[Docket No. BOEM-2015-0068]

Draft Environmental Impact Statement on the Liberty Development and Production Plan in the Beaufort Sea Planning Area; MMAA104000

AGENCY: Bureau of Ocean Energy Management, Interior.

ACTION: Notice of availability of a Draft Environmental Impact Statement.

SUMMARY: The Bureau of Ocean Energy Management (BOEM) is announcing the availability of a Draft Environmental Impact Statement (EIS) for the Liberty Development and Production Plan (DPP) in the Beaufort Sea Planning Area. The Draft EIS analyzes the potential environmental impacts of the proposed action described in the Liberty DPP and reasonable alternatives to the proposed action. This Notice of Availability announces the start of the public review and comment period, as well as the dates and locations of public hearings on the Draft EIS. After BOEM holds the public hearings and reviews comments on the Draft EIS, BOEM will prepare a Final EIS.

DATES: Comments on the Draft EIS may be submitted through November 16, 2017. Public hearings on the Draft EIS are scheduled for:

1. Monday, October 2, 2017, 7 p.m. to 10 p.m., Nuiqsut, Alaska.

2. Tuesday, October 3, 2017, 7 p.m. to 10 p.m., Fairbanks, Alaska.

3. Wednesday, October 4, 2017, 7 p.m. to 10 p.m., Kaktovik, Alaska.

4. Thursday, October 5, 2017, 7 p.m. to 10 p.m., Utqiagvik (Barrow), Alaska.

5. Tuesday, October 10, 2017, 7 p.m. to 10 p.m., Anchorage, Alaska.

ADDRESSES: The Draft EIS, Liberty DPP, and associated information are available on the BOEM Web site at https://www.boem.gov/Hilcorp-Liberty/ or by calling the Bureau of Ocean Energy Management, Alaska OCS Region, at (907) 334-5200 as described in SUPPLEMENTARY INFORMATION. The public hearings will be held at the following locations:

1. Nuiqsut, AK—Kisik Community Center, 2230 2nd Avenue.

2. Fairbanks AK—Westmark Hotel & Convention Center, 813 Noble Street.

3. Kaktovik, AK—Kaktovik Community Center, 2051 Barter Avenue.

4. Utqiagvik (Barrow), AK—Inupiat Heritage Center, 5421 North Star Street.

5. Anchorage, AK—Dena'ina Civic & Convention Center, 600 West 7th Avenue.

As described in SUPPLEMENTARY INFORMATION, submit written comments on this Draft EIS through the Federal eRulemaking Portal: http://www.regulations.gov or by mail to: Bureau of Ocean Energy Management, Attn: Liberty Draft EIS Comments, BLM Public Information Center, 222 W. 7th Avenue #13, Anchorage, Alaska, 99513.

FOR FURTHER INFORMATION CONTACT: Bureau of Ocean Energy Management, Alaska OCS Region, 3801 Centerpoint Drive, Suite 500, Anchorage, Alaska 99503-5823; or Lauren Boldrick, Project Manager, (907) 334-5200, or Frances Mann, Section Chief, (907) 334-5277.

SUPPLEMENTARY INFORMATION: The proposed action would recover and process oil from the Liberty oil field and transport sales-quality oil to market. To accomplish this, the applicant for the DPP would construct a Liberty Drilling and Production Island (LDPI) to recover reserves from three Federal leases (OCS-Y-1585, OCS-Y-1650, and OCS-Y-1886) in Foggy Island Bay of the Beaufort Sea. The applicant would construct a new pipeline linking the LDPI to the Badami Sales Oil Pipeline (Badami pipeline). The applicant would bury the subsea portion (approximately 5.6 miles) of the pipeline along a route leading south from the LDPI to the Alaska coastline west of the Kadleroshilik River. The pipeline would transition to an above-ground portion (approximately 1.5 miles) of the pipeline that would continue south to tie into the existing Badami pipeline. The applicant would produce oil from the LDPI, transport it through the Badami pipeline to the existing common carrier pipeline system, and on to the Trans-Alaska Pipeline System.

Availability of the Draft EIS: The Draft EIS, Liberty DPP, and associated information are available on the BOEM Web site at https://www.boem.gov/Hilcorp-Liberty/. BOEM will distribute digital copies of the Draft EIS (primarily on compact disc (CD)) to interested parties upon request. If you require a paper copy, BOEM will provide one upon request, as long as copies are available. You may request a CD, paper copy, or the location of a library with a paper copy of the Draft EIS by calling (907) 334-5200.

Comment Submission: Federal, state, tribal, and local governments and/or agencies and the public may submit written comments on this Draft EIS through the Federal eRulemaking Portal: http://www.regulations.gov. In the field entitled “Enter Keyword or ID,” enter BOEM-2015-0068, and then click “search.” Commenters should follow the instructions to submit their comments and view supporting and related materials. Written comments may be submitted to: Bureau of Ocean Energy Management, Attn: Liberty Draft EIS Comments, BLM Public Information Center, 222 W. 7th Avenue #13, Anchorage, Alaska, 99513.

BOEM does not accept anonymous comments and requires name and contact information. Before including your address, phone number, email address or other personal identifying information within the body of your comment, you should be aware that your entire comment, including your personal identifying information, may be made publicly available at any time. While you can ask us in your comments to withhold your personal identifying information from public review, we cannot guarantee that we will be able to do so.

Public Hearings: BOEM will hold public hearings on the Draft EIS according to the schedule above. The purpose of these hearings is to receive public testimony on the Draft EIS.

Authority: This Notice of Availability for a Draft Environmental Impact Statement is in compliance with the National Environmental Policy Act of 1969, as amended (42 U.S.C. 4231 et seq.), and is published pursuant to 40 CFR 1506.6 and 43 CFR 46.435.

Dated: August 14, 2017.
Walter D. Cruickshank,
Acting Director, Bureau of Ocean Energy Management.

[FR Doc. 2017-17481 Filed 8-17-17; 8:45 am]

BILLING CODE 4310-MR-P